DEPARTMENT OF STATE

[Public Notice 8987]

Request for Nominations of Experts for Consideration as Authors and/or Editors for the Sixth United Nations Environment Programme Global Environment Outlook (GEO-6)

AGENCY: Department of State.

ACTION: This is an announcement of an opportunity to recommend experts to the U.S. government for nomination as Coordinating Lead Authors, Lead Authors, Contributing Authors, Review Editors, and Communities of Practice Moderators for the Sixth United Nations Environment Programme North American Environmental Outlook and Global Environment Outlook (GEO-6).

SUMMARY: Governments, along with other stakeholder groups, have been invited to nominate experts to participate in the GEO-6 assessment. The Department of State is coordinating the recommendation of experts to the United Nations Environment Programme for GEO-6. The purpose of GEO-6 is to provide a comprehensive, integrated, and scientifically credible global environmental assessment to support decision-making processes. Candidates may be nominated directly at http://hqweb.unep.org/dewa/dewa_mvc_vb/form/Default.aspx?param1=geo6&param2=berlin. For nominations to be considered within the U.S. government nomination process, they must also be submitted electronically to the United States Department of State, Office of Environmental Quality and Transboundary Issues (matuszakjm@state.gov and lathamme@state.gov), which is coordinating the U.S. government nomination process.

DATES: Nominations should be received no later than January 19, 2015.

FOR FURTHER INFORMATION CONTACT: John Matuszak of the Office of Environmental Quality and Transboundary Issues, U.S. Department of State, is serving as the coordinator of this nomination process. Mr. Matuszak can be reached at email matuszakjm@state.gov, or telephone 1-202-647-9278. Please copy Michael Latham at email lathamme@state.gov, or telephone 1-201-647-1126.

SUPPLEMENTARY INFORMATION: The Global Environment Outlook is the primary assessment process used by the United Nations Environment Programme (UNEP) to review the state of the global environment. It is a tool that informs decision-making, focusing on assessment priorities and analyzing policy challenges and opportunities to provide policy response options. It is also a communications tool that brings together diverse stakeholder groups, builds capacity, and aims to raise awareness on the status and trends of the environment. The latest GEO edition, GEO-5, can be found at: http://www.unep.org/geo/geo5.asp.

Experts are expected to have a thorough understanding in one or more of the following areas: Environmental science; natural resource measurement and management; environmental and resource economics; environment and development priorities, challenges, and policy; and environmental management. UNEP will select nominees by matching expertise to specific roles, paying due attention to disciplinary, gender, and geographical balance. Details of the GEO-6 nominating criteria may be found online at: http://www.unep.org/geo/nomination-criteria.asp. Key roles and responsibilities, including the specific Terms of Reference (ToR) for the various experts and groups can be found at: http://www.unep.org/geo/expert-tor.asp. Nominations may be made at http://hqweb.unep.org/dewa/dewa_mvc_vb/form/Default.aspx?param1=geo6&param2=berlin. For nominations to be considered within the U.S. government nomination process, they must also be submitted to the United States Department of State. GEO-6 will review the nominations from all participating governments, individuals and organizations and make final decisions on nominees.

Selection as a U.S. government nominee does not guarantee selection by GEO-6 itself. Participants in the GEO process volunteer their time. Nominated individuals should agree in advance to fulfill the role for which they are nominated, should they be selected to do so by UNEP GEO. Nomination by the U.S. government to GEO-6 does not imply a commitment by the U.S. government to provide financial support for participation.

UNEP may provide travel and subsistence costs for non-Federal participants if requested by the participant, subject to the availability of resources. Additional guidance on compensation of expenses and remuneration of services will be available on the UNEP Web site.

How To Recommend Experts

1. Refer to the GEO-6 Web site for detailed background information on the 6th Assessment Report (http://www.unep.org/geo/nomination-criteria.asp, and http://www.unep.org/geo/expert-tor.asp). The document on GEO-6 nominations identifies the substantive areas covered in the report. It is important to note that the time commitment required to carry out different roles in the GEO-6 process (Coordinating Lead Authors, Lead Authors, Contributing Authors, Review Editors, and Communities of Practice Moderators) varies greatly.

2. Make sure that any of the experts whom you wish to recommend are willing to serve in the role for which they are nominated.

3. Nominations to be considered within the U.S. government nomination process must be submitted to the U.S. Department of State, Office of Environmental Quality and Transboundary Issues no later than January 19, 2015. Provide the required GEO-6 nomination information, one for each nominee, including an up-to-date curriculum vitae of no more than three pages and identification of the role for which the individual is being nominated. Send this information by email to matuszakjm@state.gov and lathamme@state.gov. Please note that partial nomination packages will not be considered.

What Happens Next?

In a process coordinated through the U.S. Department of State, Bureau of Oceans and International Environmental and Scientific Affairs, Office of Environmental Quality and Transboundary Issues, technical experts and managers of relevant science and technology programs within the U.S. government will review recommendations and forward a slate of nominees to GEO-6 on the basis of their qualifications. Submission of a nomination to the State Department does not guarantee that the nomination will be forwarded by the U.S. government to UNEP.

Disclaimer: This Public Notice is a request for nominations, and is not a request for applications. No granting or money is directly associated with this request for suggestions for GEO-6. There is no expectation of U.S. Government resources or funding associated with any nominations.

Dated: December 22, 2014.
John M. Matuszak,
Acting Director, Office of Environmental Quality and Transboundary Issues, U.S. Department of State.

[FR Doc. 2014-30561 Filed 12-29-14; 8:45 am]

BILLING CODE 4710-09-P